DEPARTMENT OF HEALTH AND HUMAN SERVICES

Centers for Disease Control and Prevention

National Center for Environmental Health/Agency for Toxic Substances and Disease Registry

The Community and Tribal Subcommittee of the Board of Scientific Counselors (BSC), Centers for Disease Control and Prevention (CDC), National Center for Environmental Health (NCEH)/Agency for Toxic Substances and Disease Registry (ATSDR): Teleconference.

In accordance with section 10(a)(2) of the Federal Advisory Committee Act (Pub. L. 92-463), The Centers for Disease Control and Prevention, NCEH/ATSDR announces the following subcommittee meeting:

Name: Community and Tribal Subcommittee (CTS).

Time and Date: 8:30 a.m.-4:30 p.m., May 18, 2005.

Place: Century Center, 1825 Century Boulevard, Atlanta, Georgia 30345.

Purpose: Under the charge of the Board of Scientific Counselors, NCEH/ATSDR the Community and Tribal Subcommittee will provide the BSC, NCEH/ATSDR with a forum for community and tribal first-hand perspectives on the interactions and impacts of the NCEH/ATSDR's national and regional policies, practices and programs.

Matters to be Discussed: The meeting agenda will include continuing discussions concerning directions from the Board's expectations from the CTS; discussions of the CTS Work Plan; discussions on partnering with the Program Peer Review Committee; an update of the State of NCEH/ATSDR; and an open discussion for other important issues.

Items are subject to change as priorities dictate.

Supplementary Information: This meeting is scheduled to begin at 8:30 a.m. eastern standard time. To participate during the Public Comment period (11:30-11:45 a.m. eastern time), dial (877) 315-6535 and enter conference code 383520.

For Further Information Contact: Sandra Malcom, Committee Management Specialist, Office of Science, NCEH/ATSDR, M/S E-28, 1600 Clifton Road, NE., Atlanta, Georgia 30333, telephone 404/498-0003.

Due to programmatic issues that had to be resolved, the Federal Register notice is being published less than fifteen days before the date of the meeting.

The Director, Management Analysis and Services Office, has been delegated the authority to sign Federal Register notices pertaining to announcements of meetings and other committee management activities for both CDC and the National Center for Environmental Health/Agency for Toxic Substances and Disease Registry.

Dated: May 2, 2005.
Alvin Hall,
Director, Management Analysis and Services Office, Centers for Disease Control and Prevention.

[FR Doc. 05-9174 Filed 5-6-05; 8:45 am]

BILLING CODE 4163-18-P